DEPARTMENT OF LABOR

Employment and Training Administration

[TA-W-40,553 and TA-W-40,553E]

AALFS Manufacturing, Inc., Glenwood, Arkansas and Texarkana Distribution Center, Texarkana, Arkansas; Amended Certification Regarding Eligibility To Apply for Worker Adjustment Assistance

In accordance with section 223 of the Trade Act of 1974 (19 U.S.C. 2273) the Department of Labor issued a Notice of Certification Regarding Eligibility to Apply for Worker Adjustment Assistance on January 22, 2002, applicable to workers of Aalfs Manufacturing, Inc., Glenwood, Arkansas. The notice was published in the Federal Register on February 5, 2002.

At the request of the company, the Department reviewed the certification for workers of the subject firm. New information shows that worker separations occurred at the Texarkana Distribution Center of Aalfs Manufacturing, Inc., Texarkana, Arkansas. The Texarkana, Arkansas location provided distribution services for Aalfs Manufacturing's production facilities including Glenwood, Arkansas. The workers were engaged in the production of men's, boy's and ladies' denim jeans and shorts.

Accordingly, the Department is amending the certification to cover the workers of Aalfs Manufacturing, Inc., Texarkana Distribution Center, Texarkana, Arkansas.

The intent of the Department's certification is to include all workers of Aalfs Manufacturing, Inc. who were adversely affected by increased imports.

The amended notice applicable to TA-W-40,553 is hereby issued as follows:

“All workers of Aalfs Manufacturing, Inc., Glenwood, Arkansas (TA-W-40,553) and Aalfs Manufacturing, Inc., Texarkana Distribution Center, Texarkana, Arkansas (TA-W-40,553E) who became totally or partially separated from employment on or after November 14, 2000, through January 22, 2004, are eligible to apply for adjustment assistance under Section 223 of the Trade Act of 1974.”

Signed at Washington, DC, this 16th day of May, 2002.
Linda G. Poole,
Certifying Officer, Division of Trade Adjustment Assistance.

[FR Doc. 02-15851 Filed 6-21-02; 8:45 am]

BILLING CODE 4510-30-P